DEPARTMENT OF ENERGY

Federal Energy Regulatory Commission

Notice of Extension of Time To Commence Project Construction and Soliciting Comments

April 9, 2002.

Take notice that the following request for extension of time has been filed with the Commission and is available for public inspection:

a. Application Type: Extension of Time to Commence Project Construction.

b. Project No: 10893-007.

c. Date Filed: January 22, 2002.

d. Applicant: Hy Power Energy Company.

e. Project Name: Inglis Lock By-pass Dam Project.

f. Name and Location of Project: The project, a conduit hydroelectric facility, would be constructed near the Town of Inglis, in Levy County, Florida.

g. Filed Pursuant to: 18 CFR 375.308 (c)(4).

h. Applicant Contact: Mr. Richard A. Volkin, Engineering Company, Inc. 600 Chapman Street, P.O. Box 359, Canton, MA 02021, (781) 821-4338.

i. FERC Contact: Any questions on this notice should be directed to Mr. Lynn R. Miles at (202) 219-2671.

j. Deadline for filing comments and or motions: May 10, 2002.

All documents (original and eight copies) should be filed with: Magalie R. Salas, Secretary, Federal Energy Regulatory Commission, 888 First Street, NE., Washington, DC 20426. Comments, Interventions and Protests may be filed electronically via the Internet in lieu of paper. See 18 CFR 385.2001(a)(1)(iii) and the instructions on the Commission's web site (http://www.ferc.gov) under the “e-Filing” link.

Please include the project number (P-10893-007) on any comments or motions filed.

k. Description of Proposal: The exemptee has requested a one-year extension of time to commence project construction and comply with Paragraph (C) of the Commission's Order Denying Rehearing, issued February 8, 2001 (94 FERC ¶ 61,112).

l. Locations of the application: A copy of the exemptee's request is available for inspection and reproduction at the Commission's Public Reference Room, located at 888 First Street, NE, Room 2A, Washington, DC 20426, or by calling (202) 208-1371. The application may be viewed on the web at www.ferc.fed.gov using the “RIMS” Link, select “Docket#” and follow the instructions (call (202) 208-2222 for assistance). A copy is also available for inspection and reproduction at the address in item g above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, OR “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 02-9028 Filed 4-12-02; 8:45 am]

BILLING CODE 6717-01-P